DEPARTMENT OF EDUCATION

Office of Safe and Drug-Free Schools; Grant Competition to Improve Public Knowledge of and Support for Democracy; Correction

AGENCY: Office of Safe and Drug-Free Schools, U.S. Department of Education.

ACTION: Correction; Notice inviting applications for new awards for fiscal year (FY) 2007.

SUMMARY: We correct the Catalog of Federal Domestic Assistance (CFDA) Number 84.929C. We also correct the Applications Available date, Deadline for Transmittal of Applications date, and the Intergovernmental Review date published in the notice on July 11, 2007 (72 FR 37741).

SUPPLEMENTARY INFORMATION: On July 11, 2007, we published in the Federal Register (72 FR 37741-37743), a notice inviting applications for new awards for FY 2007 for the Grant Competition to Improve Public Knowledge of and Support for Democracy. The CFDA Number 84.929C is incorrect on page 37741, first and third columns; page 37742, third column; and page 37743, first column. The CFDA Number is corrected to read “CFDA Number 84.304C”.

On page 37741, first and second columns, “Applications Available: July 11, 2007.” is corrected to read “Applications Available: July 25, 2007.”

On page 37741, first and second columns “Deadline for Transmittal of Applications: August 10, 2007.” is corrected to read “Deadline for Transmittal of Applications: August 24, 2007.”

On page 37741, first and third columns, “Deadline for Intergovernmental Review: September 10, 2007.” is corrected to read “Deadline for Intergovernmental Review: September 24, 2007.”

FOR FURTHER INFORMATION CONTACT: Rita Foy Moss, U.S. Department of Education, 400 Maryland Avenue, SW., room 3E247, Washington, DC 20202. Telephone: (202) 205-8061 or by e-mail: rita.foy.moss@ed.gov.

If you use a telecommunications device for the deaf (TDD), call the Federal Relay Service (FRS) at 1-800-877-8339.

Individuals with disabilities may obtain a copy of the application package in an alternative format (e.g., Braille, large print, audiotape, or computer diskette) by contacting the program contact person listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: July 18, 2007.
Deborah A. Price,
Assistant Deputy Secretary for Safe and Drug-Free Schools.

[FR Doc. E7-14328 Filed 7-23-07; 8:45 am]

BILLING CODE 4000-01-P